FEDERAL COMMUNICATIONS COMMISSION

[FR ID 331150]

Sunshine Act; Open Commission Meeting Wednesday, February 18, 2026

February 11, 2026.

The Federal Communications Commission will hold an Open Meeting on the subjects listed below on Wednesday, February 18, 2026, which is scheduled to commence at 10:30 a.m. in the Commission Meeting Room of the Federal Communications Commission, 45 L Street NE, Washington, DC.

While attendance at the Open Meeting is available to the public, the FCC headquarters building is not open access and all guests must check in with and be screened by FCC security at the main entrance on L Street. Attendees at the Open Meeting will not be required to have an appointment but must otherwise comply with protocols outlined at: www.fcc.gov/visit. Open Meetings are streamed live at: www.fcc.gov/live and on the FCC's YouTube channel.

Item No. | Bureau | Subject
1 | WIRELINE COMPETITION | Title: Lifeline and Link Up Reform and Modernization (WC Docket No. 11-42); Bridging the Digital Divide for Low-Income Consumers (WC Docket No. 17-287); Telecommunications Carriers Eligible for Universal Service Support (WC Docket No. 09-197); Affordable Connectivity Program (WC Docket No. 21-450); and Emergency Broadband Benefit Program (WC Docket No. 20-445).
|  | Summary: The Commission will consider a Notice of Proposed Rulemaking seeking comment on reforms to the Lifeline program to ensure that federal dollars go to eligible Americans, enhance program integrity, ensure that service providers comply with the Commission's rules and regulations, and streamline Lifeline rules.
2 | WIRELESS TELE COMMUNICATIONS | Title: Maximizing the Potential of the 900 MHz Band (WT Docket No. 24-99).
|  | Summary: The Commission will consider a Report and Order that would enable broadband deployment on all ten megahertz of the 900 MHz band (896-901/935-940 MHz band), facilitating additional spectrum access by utilities, critical infrastructure, and other enterprises for private wireless broadband deployments that drive innovation and stimulate the American economy.
3 | MEDIA | Title: Proposing Application Limit in Upcoming NCE Reserved Band FM Translator Filing Window (MB Docket No. 26-20).
|  | Summary: The Commission will consider a Public Notice to propose and seek comment on eligibility restrictions and a general limit of ten applications filed by any applicant entity in the upcoming 2026 filing window for new noncommercial educational reserved band FM translator stations.
4 | WIRELINE COMPETITION | Title: Reforming Legacy Rules for an All-IP Future (WC Docket No. 25-311); and Accelerating Network Modernization (WC Docket No. 25-208).
|  | Summary: The Commission will consider a Notice of Proposed Rulemaking that would seek comment on proposed reforms to intercarrier compensation, interexchange services and CAF ICC support aimed at accelerating network deployment and modernization.

* * * * *

The meeting will be webcast at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Press Access—Members of the news media are welcome to attend the meeting and will be provided reserved seating on a first-come, first-served basis. Following the meeting, the Chairman may hold a news conference in which he will take questions from credentialed members of the press in attendance. Also, senior policy and legal staff will be made available to the press in attendance for questions related to the items on the meeting agenda. Commissioners may also choose to hold press conferences. Press may also direct questions to the Office of Media Relations (OMR): MediaRelations@fcc.gov. Questions about credentialing should be directed to OMR.

Additional information concerning this meeting may be obtained from the Office of Media Relations, (202) 418-0500. Audio/Video coverage of the meeting will be broadcast live with open captioning over the internet from the FCC Live web page at www.fcc.gov/live.

Authority: This meeting is held, in accordance with the Government in the Sunshine Act (Sunshine Act), Public Law 94-409, as amended (5 U.S.C. 552b).

Federal Communications Commission.
Marlene Dortch,
Secretary.

[FR Doc. 2026-03092 Filed 2-12-26; 4:15 pm]

BILLING CODE 6712-01-P